ENVIRONMENTAL PROTECTION AGENCY

[FRL-6855-2]

Peer Review for Superfund Probabilistic Risk Guidance

AGENCY: Environmental Protection Agency (EPA).

ACTION: Notice of peer review; request for nominations for peer reviewers.

SUMMARY: The U.S. Environmental Protection Agency (EPA) is announcing that Eastern Research Group (ERG), an EPA contractor for external scientific peer review, will organize, convene, and conduct an external peer review panel workshop to review the draft document titled, Risk Assessment Guidance for Superfund Volume 3 Part A: Process for Conducting Probabilistic Risk Assessment (RAGS 3A). RAGS 3A provides guidance on conducting site-specific human health and ecological probabilistic risk assessment (PRA) under the Comprehensive Environmental Response, Compensation, and Liability Act (Superfund).

ERG is seeking nominations of highly qualified scientists with expertise in one or more of the following disciplines: Biostatistics, ecological toxicology, site-specific risk assessment of hazardous waste sites, general practice of PRA, and exposure assessment (data evaluation or application to risk assessment). Please submit a detailed resume for each nominated scientist. ERG will follow up each submission with an informational memo and forms to be filled out regarding specific areas of expertise and experience required for the review, including a conflict of interest form.

Members of the public may attend as observers, and there will be a limited time for comments from the public.

DATES: The peer review workshop will be held on Wednesday and Thursday, November 8-9, 2000, from 8:30 a.m. until 5 p.m. each day. Nominations for peer reviewers must be submitted within 30 days of this notice or no later than September 15, 2000.

ADDRESSES: Peer reviewer nominations should be sent to Ms. Meg Vrablik at Eastern Research Group, 110 Hartwell Avenue, Lexington, MA 02421. Peer reviewer nominations may also be submitted by facsimile at 781-674-2906, or by e-mail at mvrablik@erg.com. The external peer-review panel workshop will be held at the Hilton Crystal City Hotel, 2399 Jefferson Davis Highway, Arlington, Virginia, 22202, 703-418-6800. Eastern Research Group (ERG), an EPA contractor for external scientific peer review, is organizing, convening, and conducting the workshop. To attend the workshop, please register by October 20, 2000, by calling Eastern Research Group's registration line at 781-674-7374, or mailing a registration request that includes your name, organization, mailing address, phone, fax, and e-mail address to ERG, Attn: RAGs 3a, 110 Hartwell Avenue, Lexington, MA 02421, or send a facsimile, Attn: RAGs 3a, to 781-674-2906. You may also register online at http://www.erg.com/conferences/index.htm. Space is limited, and registrations will be accepted on a first-come, first-served basis. There will be a limited time for comments from the public during the workshop. When registering, please let ERG know if you wish to make oral comments at the workshop.

The draft guidance document is available on the Internet at http://www.epa.gov/superfund/pubs.htm#r. A limited number of paper copies will be available on site for reference.

FOR FURTHER INFORMATION CONTACT: For logistical inquiries, contact Ms. Vrablik or Ms. Kate Schalk at Eastern Research Group, by telephone, at 781-674-7272; by facsimile, at 781-674-2906; or by e-mail, at mvrablik@erg.com. For technical inquiries, contact Mr. S. Steven Chang at EPA, 703-603-9017.

SUPPLEMENTARY INFORMATION:

Background

OERR is updating the existing Risk Assessment Guidance for Superfund (RAGS) to add probabilistic risk analysis as a tool for conducting risk assessment at Superfund sites. The draft Risk Assessment Guidance for Superfund Volume 3 Part A: Process for Conducting Probabilistic Risk Assessment (RAGS 3A) provides guidance on conducting site-specific human health and ecological probabilistic risk assessments (PRA), and is part of the EPA Superfund Reforms announced in October 1995 by EPA Administrator Browner. The draft was announced for public comment on February 15, 2000 (65 FR 7550). EPA will consider both the public comments and the peer-review comments in revising the document.

Probabilistic risk analysis, as exemplified by Monte Carlo Analysis (MCA), is a tool for characterizing the uncertainty and variability of risk estimates and provides a range of estimates of risk in addition to the traditional point estimate approach. RAGS 3A provides guidance for conducting PRA using MCA, with emphasis on analyzing the exposure factors such as intake rate and exposure duration for chronic exposure. PRA is not a requirement for conducting risk assessment at Superfund sites.

OERR announced RAGS 3A in the Federal Register on February 15, 2000, (65 FR 7550) and made it available on the Internet for a 60-day public comment period. OERR is evaluating comments received and will consider them in revising the draft document.

Peer Review

The peer review in general will focus on the RAGS 3A scientific approaches and clarity regarding implementation. Following the external peer-review panel workshop, ERG will prepare a report summarizing the workshop, which will be available from EPA. OERR will consider the peer-review comments prior to finalizing the RAGS 3A. OERR will then publish the document as Risk Assessment Guidance for Superfund Volume 3 Part A: Process for Conducting Probabilistic Risk Assessment in late 2000 or early 2001 and make it available on the Internet at http://www.epa.gov/superfund/pubs.htm#r.

ERG will select independent peer reviewers based upon demonstrated expertise of the scientists and the need for balance in scientific expertise among the peer reviewers. All nominees will receive a memo and availability/expertise form to fill out, including a conflicts of interest screening form. Nominees must also provide ERG with their full resume/C.V. All nominations will be carefully considered, but the source of peer reviewer nominations will not be a factor in the selection of peer reviewers, and nominators are not guaranteed that any of their nominees will be selected.

Dated: August 15, 2000.
Larry G. Reed,
Acting Office Director, Office of Emergency and Remedial Response.

[FR Doc. 00-21197 Filed 8-18-00; 8:45 am]

BILLING CODE 6560-50-U